DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 21, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: Contract Pilot and Aircraft Acceptance.

OMB Control Number: 0579-0298.

Summary of Collection: The Plant Protection Act (7 U.S.C. 7701 et seq.) authorizes the Secretary of Agriculture, either independently or in cooperation with States, to carry out operations or measures to detect, eradicate, suppress, control, prevent, or retard the spread of plant pests and noxious weeds that are new to or not widely distributed within the United States. The Animal and Plant Health Inspection Service (APHIS) contracts for these services, and prior to any aerial applications, requests certain information from the contractor and/or contract pilots to ensure that the work will be done according to contract specifications. Among other things, APHIS asks to see aircraft registration, the aircraft's airworthiness certificate, the pilot's license, the pilot's medical certification, the pilot's proof of flight review, the pilot's pesticide applicator's license, and the aircraft and engine logbooks.

Need and Use of the Information: Contract Pilot and Aircraft Acceptance Form (PPQ-816) and SIT Pilot and Aircraft Cheek-In Sheet (PPQ Form 818) are used by the Plant Protection and Quarantine personnel who are involved with contracts for aerial application services for emergency pest outbreaks. The forms are used to document that the pilot and aircraft meet contract specifications. If APHIS did not collect this information or collected it less frequently, APHIS would not be able to verify if APHIS contracts for aerial application services met specifications.

Description of Respondents: Businesses.

Number of Respondents: 15.

Frequency of Responses: Reporting: On occasion.

Total Burden Hours: 8.

Animal and Plant Health Inspection Service

Title: Pale Cyst Nematode.

OMB Control Number: 0579-0322.

Summary of Collection: The United States Department of Agriculture (USDA), Animal and Plant Health Inspection Service (APHIS), is responsible for preventing plant diseases or insect pests from entering the United States, preventing the spread of pests and noxious weeds not widely distributed in the United States, and eradicating those imported pests when eradication is feasible. The Plant Protection Act (7 U.S.C. 7701 et seq.) authorizes the Secretary of Agriculture to restrict the importation, entry, or interstate movement of plants, plant products, and other articles to prevent the introduction of plants pests into the United States or their dissemination within the United States.

In accordance with the regulations in “Subpart-Pale Cyst Nematode” (7 CFR 301.86-301.86-9), the Animal and Plant Health Inspection Service of U.S. Department of Agriculture restricts the interstate movement of certain articles to help prevent the spread of pale cyst nematode, a major pest of potato crops in cool-temperature areas, via potatoes, soil, and other host material to noninfested areas of the United States. Allowing the restrictions on the interstate movement of regulated articles necessitates the completion of certain forms such as Federal Certificates, Federal Limited Permits, Compliance Agreements, Self-Certification, Packing Facility Process Approval, Appeal of Withdrawn Certificate or Limited Permit, Appeal of Withdrawn Compliance Agreement, and Labeling.

Need and Use of the Information: APHIS will collect information using certificates, limited permits, compliance agreements, self-certification, packing facility process approval, appeal of withdrawn certificate or limited permit, appeal of withdrawn compliance agreement, cyst nematode survey (PPQ form 312), and labeling to prevent the spread of PCN and to ensure that regulated articles can be moved safely from the quarantined area without spreading PCN. If APHIS did not collect this information, the spread of PCN in the United States could result in a loss of United States potatoes and other commodities from domestic and/or foreign markets.

Description of Respondents: Farms; Business or other for-profit.

Number of Respondents: 212.

Frequency of Responses: Reporting: On occasion.

Total Burden Hours: 488.

Dated: February 14, 2022.
Ruth Brown,
Departmental Information Collection Clearance Officer.

[FR Doc. 2022-03449 Filed 2-16-22; 8:45 am]

BILLING CODE 3410-34-P